DEPARTMENT OF ENERGY

Federal Energy Regulatory Commission

Notice of FERC Staff Attendance at the Southwest Power Pool ICT Stakeholder Policy Committee Meeting and the Entergy Regional State Committee Meeting

April 26, 2010.

The Federal Energy Regulatory Commission hereby gives notice that members of its staff may attend the meetings noted below. Their attendance is part of the Commission's ongoing outreach efforts.

ICT Stakeholder Policy Committee Meeting

May 12, 2010 (8 a.m.-12 p.m.), Hilton Baton Rouge Capitol Center, 201 Lafayette Street, Baton Rouge, LA 70801, 225-344-5866.

Entergy Regional State Committee Meeting

May 12, 2010 (1 p.m.-5 p.m.)

May 13, 2010 (8 a.m.-12 p.m.), Hilton Baton Rouge Capitol Center, 201 Lafayette Street, Baton Rouge, LA 70801, 225-344-5866.

The discussions may address matters at issue in the following proceedings:

Docket No. OA07-32 | Entergy Services, Inc.
Docket No. OA08-59 | Entergy Services, Inc.
Docket No. EL00-66 | Louisiana Public Service Commission v. Entergy Services, Inc.
Docket No. EL01-88 | Louisiana Public Service Commission v. Entergy Services, Inc.
Docket No. EL05-15 | Arkansas Electric Cooperative Corp. v. Entergy Arkansas, Inc.
Docket No. EL07-52 | Louisiana Public Service Commission v. Entergy Services, Inc.
Docket No. EL08-51 | Louisiana Public Service Commission v. Entergy Services, Inc.
Docket No. EL08-60 | Ameren Services Co. v. Entergy Services, Inc.
Docket No. EL09-43 | Arkansas Public Service Commission v. Entergy Services, Inc.
Docket No. EL09-61 | Louisiana Public Service Commission v. Entergy Services, Inc.
Docket No. EL09-78 | South Mississippi Electric Power Association v. Entergy Services, Inc.
Docket No. EL10-55 | Louisiana Public Service Commission v. Entergy Services, Inc.
Docket No. ER05-1065 | Entergy Services, Inc.
Docket No. ER07-682 | Entergy Services, Inc.
Docket No. ER07-956 | Entergy Services, Inc.
Docket No. ER08-767 | Entergy Services, Inc.
Docket No. ER08-1056 | Entergy Services, Inc.
Docket No. ER08-1057 | Entergy Services, Inc.
Docket No. ER09-636 | Entergy Services, Inc.
Docket No. ER09-833 | Entergy Services, Inc.
Docket No. ER09-877 | Entergy Services, Inc.
Docket No. ER09-882 | Entergy Services, Inc.
Docket No. ER09-1214 | Entergy Services, Inc.
Docket No. ER09-1224 | Entergy Services, Inc.
Docket No. ER10-794 | Entergy Services, Inc.
Docket No. ER10-879 | Entergy Services, Inc.
Docket No. ER10-984 | Entergy Services, Inc.

These meetings are open to the public.

For more information, contact Patrick Clarey, Office of Energy Market Regulation, Federal Energy Regulatory Commission at (317) 249-5937 or patrick.clarey@ferc.gov.

Kimberly D. Bose,
Secretary.

[FR Doc. 2010-10217 Filed 4-30-10; 8:45 am]

BILLING CODE 6717-01-P